DEPARTMENT OF HEALTH AND HUMAN SERVICES

Administration for Children and Families

President's Committee for People With Intellectual Disabilities; Notice of Correction of Room for Meeting

AGENCY: President's Committee for People with Intellectual Disabilities (PCPID).

ACTION: Notice of correction of room for meeting.

DATES: Thursday, June 16, 2011, from 9:30 a.m. to 4 p.m. E.S.T.; and Friday, June 17, 2011, from 9 a.m. to 5 p.m. E.S.T. The meeting will be open to the public.

ADDRESSES: The meeting will be held in Conference Room 505-A of the Hubert H. Humphrey Building, U.S. Department of Health and Human Services, 200 Independence Avenue, SW., Washington, DC 20201. Individuals who would like to participate via conference call may do so by dialing 888-323-9869, pass code: PCPID. Individuals who will need accommodations for a disability in order to attend the meeting (e.g., sign language interpreting services, assistive listening devices, materials in alternative format such as large print or Braille) should notify Genevieve Swift, PCPID Executive Administrative Assistant, via e-mail at Edith.Swift@acf.hhs.gov, or via telephone at 202-619-0634, no later than June 10, 2011. PCPID will attempt to meet requests for accommodations made after that date, but cannot guarantee ability to grant requests received after this deadline. All meeting sites are barrier free.

Agenda: PCPID will meet to swear-in the new members of the Committee and set the agenda for the coming year.

Additional Information: For further information, please contact Laverdia Taylor Roach, Director, President's Committee for People with Intellectual Disabilities, The Aerospace Center, Second Floor West, 370 L'Enfant Promenade, SW., Washington, DC 20447. Telephone: 202-619-0634. Fax: 202-205-9519. E-mail: LRoach@acf.hhs.gov.

SUPPLEMENTARY INFORMATION: PCPID acts in an advisory capacity to the President and the Secretary of Health and Human Services, through the Administration on Developmental Disabilities, on a broad range of topics relating to programs, services and supports for persons with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: May 24, 2011.
Laverdia Taylor Roach,
Director, PCPID.

[FR Doc. 2011-13337 Filed 5-27-11; 8:45 am]

BILLING CODE 4184-01-P